FEDERAL COMMUNICATIONS COMMISSION

47 CFR Part 73

[DA 04-137; MB Docket No. 03-8; RM-10625]

Radio Broadcasting Services; Irmo and Saluda, South Carolina

AGENCY: Federal Communications Commission.

ACTION: Final rule.

SUMMARY: In response to a Notice of Proposed Rule Making, 68 FR 5862 (February 5, 2003), this Report and Order grants the requests of Breckinridge Communications, LLC (“Breckinridge”), licensee of Station WJES-FM, to upgrade its station from Channel 221A to Channel 221C3 and to reallot Channel 221C3 from Saluda to Irmo, South Carolina, thus providing Irmo with its first local aural transmission service. This document also denies comments filed by Glory Communications,Inc., licensee of Station WFMV(FM), South Congaree, South Carolina, which opposed Breckinridge's foregoing requests. The coordinates for Channel 221C3 at Irmo are 34-09-00 North Latitude and 81-13-00 West Longitude, with a site restriction of 7.8 kilometers (4.9 miles) northwest of Irmo, South Carolina.

DATES: Effective March 15, 2004.

FOR FURTHER INFORMATION CONTACT: R. Barthen Gorman, Media Bureau, (202) 418-2180.

SUPPLEMENTARY INFORMATION: This is a synopsis of the Commission's Report and Order in MB Docket No. 03-8, adopted January 28, 2004, and released January 30, 2004. The full text of this Commission decision is available for inspection and copying during normal business hours in the FCC's Reference Information Center at Portals II, CY-A257, 445 12th Street, SW., Washington, DC. This document may also be purchased from the Commission's duplicating contractors, Qualex International, Portals II, 445 12th Street, SW.rrr, Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under South Carolina, is amended by adding Irmo, Channel 221C3, and removing Saluda, Channel 221A.

Federal Communications Commission.
John A. Karousos,
Assistant Chief, Audio Division, Media Bureau.

[FR Doc. 04-3822 Filed 2-20-04; 8:45 am]

BILLING CODE 6712-01-P